EXPORT-IMPORT BANK

[Public Notice: 2021-6013]

Agency Information Collection Activities: Comment Request

AGENCY: Export-Import Bank of the U.S.

ACTION: Submission for OMB review and comments request.

SUMMARY: The Export-Import Bank of the United States (Ex-Im Bank), as a part of its continuing effort to reduce paperwork and respondent burden, invites the general public and other Federal Agencies to comment on the proposed information collection, as required by the Paperwork Reduction Act of 1995.

DATES: Comments should be received on or before August 30, 2021 to be assured of consideration.

ADDRESSES: Comments may be submitted electronically on http://www.regulations.gov or by mail to Mardel West, Export-Import Bank of the United States, 811 Vermont Avenue NW, Washington, DC 20571.

Comments submitted in response to this notice may be made available to the public through the WWW.REGULATIONS.GOV. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: To request additional information, please contact Tiffin Caverly <tiffin.caverly@exim.gov>, 202-565-3564.

SUPPLEMENTARY INFORMATION: This collection will provide information needed to determine compliance and creditworthiness for transaction requests involving previously-owned equipment submitted to Ex-Im Bank under its insurance, guarantee, and direct loan programs. Information presented in this form will be considered in the overall evaluation of the transaction, including Export-Import Bank's determination of the appropriate term for the transaction.

The form can be viewed at: https://www.exim.gov/sites/default/files/pub/pending/eib11-03.pdf.

Titles and Form Number: EIB 11-03, Used Equipment Questionnaire.

OMB Number: 3048-0039.

Type of Review: Regular.

Need and Use: The information collected will provide information needed to determine compliance and creditworthiness for transaction requests involving previously-owned equipment submitted to the Export Import Bank under its insurance, guarantee, and direct loan programs.

Affected Public: This form affects entities involved in the export of U.S. goods and services.

Annual Number of Respondents: 1,000.

Estimated Time per Respondent: 15 minutes.

Annual Burden Hours: 250 hours.

Frequency of Reporting or Use: As needed.

Government Expenses:

Reviewing Time per Year: 250 hours.

Average Wages per Hour: $42.50.

Average Cost per Year: $10,625 (time*wages).

Benefits and Overhead: 20%.

Total Government Cost: $12,750.

Bassam Doughman,
IT Specialist.

[FR Doc. 2021-14015 Filed 6-30-21; 8:45 am]

BILLING CODE 6690-01-P